DEPARTMENT OF EDUCATION

Submission of Data by State Educational Agencies; Submission Dates for State Revenue and Expenditure Reports for Fiscal Year 2021, Revisions to Those Reports, and Revisions to Prior Fiscal Year Reports

AGENCY: National Center for Education Statistics, Institute of Education Sciences, Department of Education.

ACTION: Notice.

SUMMARY: The Secretary announces dates for State educational agencies (SEAs) to submit expenditure and revenue data and average daily attendance statistics on ED Form 2447 (the National Public Education Financial Survey (NPEFS)) for fiscal year (FY) 2021, revisions to those reports, and revisions to reports for previous fiscal years. The Secretary sets these dates to ensure that data are available to serve as the basis for timely distribution of Federal funds. The U.S. Census Bureau is the data collection agent for this request of the Department of Education's National Center for Education Statistics (NCES). The data will be published by NCES and will be used by the Secretary in the calculation of allocations for FY 2023 appropriated funds.

DATES: SEAs can begin submitting data for FY 2021 and revisions to previously submitted data for FY 2020 on Monday, January 31, 2022. SEAs are urged to submit accurate and complete data by Friday, March 25, 2022, to facilitate timely processing. The deadline for the final submission of all data, including any revisions to previously submitted data for FY 2020 and FY 2021, is Monday, August 15, 2022. Any resubmissions of FY 2020 or FY 2021 data by SEAs in response to requests for clarification, reconciliation, or other inquiries by NCES or the Census Bureau must be completed as soon as possible, but no later than Tuesday, September 6, 2022. All outstanding data issues must be reconciled or resolved by the SEAs, NCES, and the Census Bureau as soon as possible, but no later than September 6, 2022.

Submission Information: SEAs are encouraged to submit data online using the interactive survey form on the NPEFS data collection website at: https://surveys.nces.ed.gov/ccdnpefs. The NPEFS interactive survey includes a digital confirmation page where a personal identification number (PIN) may be entered. A successful entry of the PIN serves as a signature by the authorizing official. Alternatively, a certification form also may be printed from the website, signed by the authorizing official, and mailed to the Economic Reimbursable Surveys Division of the Census Bureau at the Washington, DC, address provided above, within five business days after submission of the NPEFS web interactive form.

SEAs may mail ED Form 2447 to: U.S. Census Bureau, ATTENTION: Economic Reimbursable Surveys Division, 4600 Silver Hill Road, Suitland, MD 20746.

If an SEA's submission is received by the Census Bureau after August 15, 2022, the SEA must show one of the following as proof that the submission was mailed on or before that date:

1. A legibly dated U.S. Postal Service postmark.

2. A legible mail receipt with the date of mailing stamped by the U.S. Postal Service.

3. A dated shipping label, invoice, or receipt from a commercial carrier.

4. Any other proof of mailing acceptable to the Secretary.

If the SEA mails ED Form 2447 through the U.S. Postal Service, the Secretary does not accept either of the following as proof of mailing:

1. A private metered postmark.

2. A mail receipt that is not dated by the U.S. Postal Service.

Note: The U.S. Postal Service does not uniformly provide a dated postmark. Before relying on this method, an SEA should check with its local post office.

FOR FURTHER INFORMATION CONTACT: Stephen Q. Cornman, Senior Survey Director, Financial Surveys, National Center for Education Statistics, Institute of Education Sciences, U.S. Department of Education, 550 12th Street SW, Washington, DC 20202. Telephone: (202) 245-7753. Email: stephen.cornman@ed.gov. You may also contact an NPEFS team member at the Census Bureau. Telephone: 1-800-437-4196 or (301) 763-1571. Email: erd.npefs.list@census.gov.

If you use a telecommunications device for the deaf (TDD) or a text telephone (TTY), call the Federal Relay Service, toll free, at 1-800-877-8339.

SUPPLEMENTARY INFORMATION: Under section 153(a)(1)(I) of the Education Sciences Reform Act of 2002, 20 U.S.C. 9543(a)(1)(I), which authorizes NCES to gather data on the financing and management of education, NCES collects data annually from SEAs through ED Form 2447. The report from SEAs includes attendance, revenue, and expenditure data from which NCES determines a State's “average per-pupil expenditure” (SPPE) for elementary and secondary education, as defined in section 8101(2) of the Elementary and Secondary Education Act of 1965, as amended (ESEA) (20 U.S.C. 7801(2)).

In addition to using the SPPE data as general information on the financing of elementary and secondary education, the Secretary uses these data directly in calculating allocations for certain formula grant programs, including, but not limited to, title I, part A, of the ESEA, Impact Aid, and Indian Education programs. Other programs, such as the Education for Homeless Children and Youth program under title VII of the McKinney-Vento Homeless Assistance Act, and the Student Support and Academic Enrichment Grants under title IV, part A of the ESEA make use of SPPE data indirectly because their formulas are based, in whole or in part, on State title I, part A, allocations.

In January 2022, the Census Bureau, acting as the data collection agent for NCES, will email ED Form 2447 to SEAs, with instructions, and will request that SEAs commence submitting FY 2021 data to the Census Bureau on Monday, January 31, 2022. SEAs are urged to submit accurate and complete data by Friday, March 25, 2022, to facilitate timely processing.

Submissions by SEAs to the Census Bureau will be analyzed for accuracy and returned to each SEA for verification. SEAs must submit all data, including any revisions to FY 2020 and FY 2021 data, to the Census Bureau no later than Monday, August 15, 2022. Any resubmissions of FY 2020 or FY 2021 data by SEAs in response to requests for clarification or reconciliation or other inquiries by NCES or the Census Bureau must be completed by Tuesday, September 6, 2022. Between August 15, 2022, and September 6, 2022, SEAs may also, on their own initiative, resubmit data to resolve issues not addressed in their NPEFS data submitted by August 15, 2022. All outstanding data issues must be reconciled or resolved by the SEAs, NCES, and the Census Bureau as soon as possible, but no later than September 6, 2022.

In order to facilitate timely submission of data, the Census Bureau will send reminder notices to SEAs in June and July of 2022.

Having accurate, consistent, and timely information is critical to an efficient and fair Department of Education (Department) allocation process and to the NCES statistical process. The Department establishes Monday, August 15, 2022, as the date by which SEAs must submit data using either the interactive survey form on the NPEFS data collection website at https://surveys.nces.ed.gov/ccdnpefs/ or ED Form 2447. This date is established to ensure that the best, most accurate data will be available to support timely distribution of Federal education funds.

Any resubmissions of FY 2020 or FY 2021 data by SEAs in response to requests for clarification or reconciliation or other inquiries by NCES or the Census Bureau must be completed through the interactive survey form on the NPEFS data collection website or ED Form 2447 by Tuesday, September 6, 2022. If an SEA submits revised data after the September 6, 2022, deadline that result in a lower SPPE figure, the SEA's allocations may be adjusted downward, or the Department may direct the SEA to return funds.

Note: The following are important dates in the data collection process for FY 2021 data and revisions to reports for previous fiscal years:

Date | Activity
January 31, 2022 | SEAs can begin to submit data for FY 2021 and revisions to previously submitted data for FY 2020.
March 25, 2022 | Date by which SEAs are urged to submit accurate and complete data for FY 2021 and FY 2020.
August 15, 2022 | Mandatory final submission date for FY 2021 and FY 2020 data to be used for program funding allocation purposes.
September 6, 2022 | Mandatory final deadline for responses by SEAs to requests for clarification or reconciliation or other inquiries by NCES or the Census Bureau. Between August 15, 2022, and September 6, 2022, SEAs may also, on their own initiative, resubmit data to resolve issues not addressed in their NPEFS data submitted by August 15, 2022. By September 6, 2022, all data issues must be resolved.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Authority: 20 U.S.C. 9543.

Mark Schneider,
Director, Institute of Education Sciences.

[FR Doc. 2022-00309 Filed 1-10-22; 8:45 am]

BILLING CODE 4000-01-P